DEPARTMENT OF COMMERCE

National Oceanic and Atmospheric Administration

[RTID 0648-XA224]

Caribbean Fishery Management Council; Public Meeting

AGENCY: National Marine Fisheries Service (NMFS), National Oceanic and Atmospheric Administration (NOAA), Commerce.

ACTION: Notice of public meeting.

SUMMARY: The Caribbean Fishery Management Council (CFMC) will hold the 169th public virtual meeting to address the items contained in the tentative agenda included in the SUPPLEMENTARY INFORMATION.

DATES: The 169th CFMC public virtual meeting will be held on June 23-24, 2020. The meeting will be at Eastern Daylight Time.

ADDRESSES: You may join the 169th CFMC public virtual meeting (via GoToMeeting) from a computer, tablet or smartphone by entering the following address:

CFMC Virtual Meeting, June 23, 2020

Tuesday, June 23, 2020, 9 a.m.-4:30 p.m. (GMT-04:00)

Please join the meeting from your computer, tablet or smartphone. https://global.gotomeeting.com/join/612318693. You can also dial in using your phone: United States: +1 (872) 240-3212, Access Code: 612-318-693. Get the app now and be ready when the meeting starts: https://global.gotomeeting.com/install/612318693.

CFMC Virtual Meeting, June 24, 2020

Wednesday, June 24, 2020, 9 a.m.-3:30 p.m. (GMT-04:00)

Please join the meeting from your computer, tablet or smartphone. https://global.gotomeeting.com/join/511547685. Get the app now and be ready when the meeting starts: https://global.gotomeeting.com/install/511547685.

Closed Session (Only for Council Members)

Tuesday, June 23, 2020, 4:45 p.m.-5:30 p.m. (GMT-04:00)

Please join the meeting from your computer, tablet or smartphone. https://global.gotomeeting.com/join/736098021. This closed session webinar is locked with a password, only for Council members. You can also dial in using your phone: United States: +1 (786) 535-3211, Access Code: 736-098-021. Get the app now and be ready when the meeting starts: https://global.gotomeeting.com/install/736098021.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

June 23, 2020, 9 a.m.-11 a.m.

—Call to Order

—Roll Call

—Adoption of Agenda

—Consideration of 168th Council Meeting Verbatim Transcriptions

—Message from the Secretary of Puerto Rico Department of Natural and Environmental Resources (DNER)—Rafael A. Machargo Maldonado

—Executive Director's Report

11 a.m.-11:10 a.m.

—Break

11:10 a.m.-12 p.m.

—Scientific and Statistical Committee (SSC) Report, Includes Use of Landing Projections and other Data for Stock Assessment and Determination of Management Parameters—Richard Appeldoorn

12 p.m.-1 p.m.

—Lunch Break

1 p.m.-1:30 p.m.

—Ecosystem-Based Fishery Management Technical Advisory Panel (EBFMTAP) Report—Bill Arnold

1:30 p.m.-2:30 p.m.

—Southeast Fisheries Science Center (SEFSC) Updated Projections for Spiny Lobster for Each Island Platform

—Overview of SEDAR 57 Caribbean Spiny Lobster Stock Assessment—Adyan Rios

2:30 p.m.-3:15 p.m.

—District Advisory Panels (DAPs) Report, Includes COVID-19 Impact on Local Fisheries (15 minutes each)

—St. Thomas/St. John

—St. Croix

—Puerto Rico

4 p.m.-4:30 p.m.

—Public Comment Period (5-minute presentations)

4:30 p.m.

—Adjourn

4:45 p.m.-5:15 p.m.

—Closed Session

June 24, 2020, 9 a.m.-9:30 a.m.

—Island-Based Fishery Management Plans (FMPs) Update—Maria del Mar López

—Outreach and Education Advisory Panel Report—Alida Ortiz

9:30 a.m.-10 a.m.

—Regulations Compatibility—Federal Territory USVI—Carlos Farchette

—Marine Recreational Information Program (MRIP) Update—Sarah Stephenson

10 a.m.-10:10 a.m.

—Break

10:10 a.m.-10:40 a.m.

—CFMC Mission and Strategic Plan Survey Update—Michelle Duval

10:40 a.m.-11 a.m.

—Queen Conch Aquaculture Project in Puerto Rico—Megan Davis

11 a.m.-12 p.m.

—Update on Queen Conch Listing under the Endangered Species Act (ESA)

—Spawning of Nassau Grouper at Grammanik Bank—Julian Magras

12 p.m.-1 p.m.

—Lunch Break

1 p.m.-1:15 p.m.

—Exempted Fishery Permit (EFP) and Letter of Allowance (LOA) Update—Sarah Stephenson

1:15 p.m.-2:15 p.m.

—Enforcement (15 minutes each)

—Puerto Rico—DNER

—USVI—Department of Planning and Natural Resources (DPNR)

—U.S. Coast Guard

—NMFS/NOAA

2:15 p.m.-2:30 p.m.

—SOPPs Possible Amendment

2:30 p.m.-3 p.m.

—Other Business

3 p.m.-3:30 p.m.

—Public Comment Period (5-minute presentations)

3:30 p.m.

—Adjourn

The order of business may be adjusted as necessary to accommodate the completion of agenda items. The meeting will begin on June 23, 2020, at 9 a.m. EDT, and will end on June 24, 2020, at 3:30 p.m. EDT. Other than the start time on the first date, interested parties should be aware that discussions may start earlier or later than indicated, at the discretion of the Chair.

Special Accommodations

Simultaneous interpretation will be provided. To receive interpretation in Spanish you can dial into the meeting as follows:

U.S./Canada: call +1-888-947-3988, when system answers, enter 1*999996#. Para interpretación en inglés marcar:

U.S./Canada: call +1-888-947-3988, cuando el sistema conteste, entrar el siguiente número 2*999996#.

For any additional information on this public virtual meeting, please contact Diana Martino, Caribbean Fishery Management Council, 270 Muñoz Rivera Avenue, Suite 401, San Juan, Puerto Rico, 00918-1903, telephone: (787) 226-8849.

Dated: June 4, 2020.
Tracey L. Thompson,
Acting Deputy Director, Office of Sustainable Fisheries, National Marine Fisheries Service.

[FR Doc. 2020-12450 Filed 6-8-20; 8:45 am]

BILLING CODE 3510-22-P